DEPARTMENT OF DEFENSE

Office of the Secretary

Charter Renewal of Department of Defense Federal Advisory Committees

AGENCY: Department of Defense.

ACTION: Charter Amendment of Federal Advisory Committee.

SUMMARY: The Department of Defense is publishing this notice to announce that it is amending the charter for the National Commission on the Future of the Army (“the Commission”).

FOR FURTHER INFORMATION CONTACT: Jim Freeman, Advisory Committee Management Officer for the Department of Defense, 703-692-5952.

SUPPLEMENTARY INFORMATION: This committee's charter is being amended pursuant to Section 1702 of the Carl Levin and Howard P. “Buck” McKeon National Defense Authorization Act for Fiscal Year 2015 (“the FY 2015 NDAA”) (Publ. L. 113-291), as amended by Section 1061 of the National Defense Authorization Act for Fiscal Year 2016 (“the FY 2016 NDAA”) (Pub. L. 114-92), and in accordance with the Federal Advisory Committee Act (FACA) of 1972 (5 U.S.C., Appendix, as amended) and 41 CFR 102-3.50(a).

Pursuant to section 1061 of the FY 2016 NDAA, Section 10 of FACA shall not apply to a meeting of the Commission unless the meeting is attended by five or more members of the Commission.

Dated: January 13, 2016.
Aaron Siegel,
Alternate OSD Federal Register Liaison Officer, Department of Defense.

[FR Doc. 2016-00829 Filed 1-15-16; 8:45 am]

BILLING CODE 5001-06-P